ENVIRONMENTAL PROTECTION AGENCY

40 CFR Part 52

[EPA-R04-OAR-2007-0085; FRL-9969-33-Region 4]

Air Plan Approval; North Carolina; Air Curtain Burners

AGENCY: Environmental Protection Agency (EPA).

ACTION: Withdrawal of direct final rule.

SUMMARY: Due to receipt of an adverse comment, the Environmental Protection Agency (EPA) is withdrawing the August 17, 2017, direct final rule that approves portions of North Carolina State Implementation Plan (SIP) revisions related to changes to an air curtain burner regulation. EPA stated in the direct final rules that if EPA received adverse comments by the close of the public comment period, the rules would be withdrawn and not take effect. EPA will address the comment in a subsequent final action based upon the proposed rulemaking action, also published on August 17, 2017.

DATES: The direct final rule published August 17, 2017 at 82 FR 39027 is withdrawn, effective October 13, 2017.

FOR FURTHER INFORMATION CONTACT: Nacosta C. Ward, Air Regulatory Management Section, Air Planning and Implementation Branch, Air, Pesticides and Toxics Management Division, U.S. Environmental Protection Agency, Region 4, 61 Forsyth Street SW., Atlanta, Georgia 30303-8960. Ms. Ward can be reached via telephone at (404) 562-9140, or via electronic mail at ward.nacosta@epa.gov.

SUPPLEMENTARY INFORMATION: On August 17, 2017 (82 FR 39027), EPA published a direct final rulemaking approving portions of SIP revisions submitted by State of North Carolina through the North Carolina Department of Environmental Quality (formerly the North Carolina Department of Environment and Natural Resources), Division of Air Quality. Specifically, EPA took direct final action to approve portions of North Carolina's October 14, 2004, March 24, 2006, and January 31, 2008 submissions that make changes to Regulation 15A NCAC Subchapter 2D—Air Pollution Control Requirements, Section .1904, Air Curtain Burners. These SIP revisions were submitted to make changes to the requirements for permits obtained for air curtain burners as defined by 40 CFR 60.2245 through 60.2265, permanent burning sites or materials transported from burning site to burning site; make clarifications to existing text regarding air quality forecast areas in order to address all pollutants instead of only ozone; and expand the scope of the types of air curtain burners for which air quality permits must be issued.

In the direct final rulemaking, EPA explained that the Agency was publishing the rule without prior proposal because the Agency viewed the submittal as a non-controversial SIP amendment and anticipated no adverse comments. Further, EPA explained that the Agency was publishing a separate document in the proposed rules section of the Federal Register to serve as the proposal to approve the SIP revision should an adverse comment be filed (see 82 FR 39097). EPA also noted that the rule would be effective generally 30 days after the close of the public comment period, without further notice unless the Agency received adverse comment by the close of the public comment period. EPA explained that if the Agency received such comments, then EPA would publish a document withdrawing the final rule and informing the public that the rule would not take effect. It was also explained that all public comments received would then be addressed in a subsequent final rule based on the proposed rule, and that EPA would not institute a second comment period on this action.

EPA received one adverse comment from a single Commenter on the aforementioned rule. As a result of the comment received, EPA is withdrawing the direct final rule approving the aforementioned changes to the North Carolina SIP. If EPA determines that it is appropriate to finalize the proposed approval of the aforementioned changes to the North Carolina SIP, EPA will publish a final rule which will include a response to the comments received. In the event that EPA determines that it is not appropriate to finalize the proposed approval related to these changes, EPA may issue a subsequent proposal with a different course of action.

List of Subjects in 40 CFR Part 52

Environmental protection, Air pollution control, Incorporation by reference, Intergovernmental relations, Particulate matter, Reporting and recordkeeping requirements.

Dated: September 29, 2017.
Onis “Trey” Glenn, III,
Regional Administrator, Region 4.

PART 52—APPROVAL AND PROMULGATION OF IMPLEMENTATION PLANS

Accordingly, the amendment to 40 CFR 52.1770(c), Table 1, published August 17, 2017 (82 FR 39027), is withdrawn effective October 13, 2017.

[FR Doc. 2017-22101 Filed 10-12-17; 8:45 am]

BILLING CODE 6560-50-P